DEPARTMENT OF LABOR

Employment and Training Administration

Notice of Determinations Terminating Investigations of Petitions Regarding Eligibility To Apply for Worker Adjustment Assistance

In accordance with Section 223 of the Trade Act of 1974, as amended (19 U.S.C. 2273) the Department of Labor herein presents summaries of determinations terminating investigations of petitions regarding eligibility to apply for trade adjustment assistance for workers by (TA-W-) number issued during the period of September 3, 2009 through December 22, 2009. After notice of the petitions was published in the Federal Register and on the Department's Web site, as required by Section 221 of the Act (19 U.S.C. 2271), the Department initiated investigations of these petitions.

The following determinations terminating investigations were issued because the petitions are the subject of ongoing investigations under petitions filed earlier covering the same petitioners.

TA-W-70,421: Delphi Automotive Systems, Warren, Ohio, covered by TA-W-70,324: Delphi Automotive Systems, Warren, Ohio.

TA-W-70,685: Curtis Wright/Benshaw, Inc., High Point, North Carolina, covered by TA-W-70,605: Curtis Wright/Benshaw, Inc., High Point, North Carolina.

TA-W-70,905: T&S Hardwoods, Sylva, North Carolina, covered by TA-W-70,783: T&S Hardwoods, Sylva, North Carolina.

TA-W-71,295: Advanced Industrial Machinery, Inc., Hickory, North Carolina, covered by TA-W-70,874: Advanced Industrial Machinery, Inc., Hickory, North Carolina.

TA-W-71,322: NewPage Corp., Wickliffe, Kentucky, covered by TA-W-71,303: NewPage Corp., Wickliffe, Kentucky.

TA-W-71,326: IBM Corporation, Boulder, Colorado, covered by TA-W-71,031, as amended: IBM Corporation, Endicott, New York, including employees working Boulder, Colorado and throughout the United States.

TA-W-71,362: A.R.E. Manufacturing, Inc., Newberg, Oregon, covered by TA-W-71,339: A.R.E. Manufacturing, Inc., Newberg, Oregon.

TA-W-71,399: IBM, Endicott, New York, covered by TA-W-70,580: IBM, Endicott, New York.

TA-W-71,545: Agilent Technologies, Loveland, Colorado, covered by TA-W-70,918: Agilent Technologies, Loveland, Colorado.

TA-W-71,566: Oxford Collections, Gaffney, South Carolina, covered by TA-W-71,457: Oxford Collections, Gaffney, South Carolina.

TA-W-71,590: General Pattern Co., Blaine, Minnesota, covered by TA-W-71,038: General Pattern Co., Blaine, Minnesota.

TA-W-71,619: Freescale Semiconductor, Austin, Texas, covered by TA-W-71,551: Freescale Semiconductor, Austin, Texas.

TA-W-71,649: Erickson Air Crane, Central Point, Oregon, covered by TA-W-71,163: Erickson Air Crane, Central Point, Oregon.

TA-W-71,728: Baxter Healthcare Corp., Mountain Home, Arkansas, covered by TA-W-71,432: Baxter Healthcare Corp., Mountain Home, Arkansas.

TA-W-71,832: Electrocraft Ohio, Inc., Gallipolis, Ohio, covered by TA-W-71,799: Electrocraft Ohio, Inc., Gallipolis, Ohio.

TA-W-71,892: DSFI, Addison, Illinois, covered by TA-W-71,718: DSFI, Addison, Illinois.

TA-W-71,909: Carolina Specialty Tools, Connelly Springs, North Carolina, covered by TA-W-71,887: Carolina Specialty Tools, Connelly Springs, North Carolina.

TA-W-72,002: International Automotive Components, Old Fort, North Carolina, covered by TA-W-71,930: International Automotive Components, Old Fort, North Carolina.

TA-W-72,110: JR Engineering, Barberton, Ohio, covered by TA-W-70,975A: B&C Corporation, JR Engineering Division, Barberton, Ohio.

TA-W-72,114: Furniture Brands—Thomasville, Plant #9, Hickory, North Carolina, covered by TA-W-70,845: Thomasville Furniture Industries, Inc., Plant 9, A Subsidiary of Furniture Brands—International, Inc., Hickory, North Carolina.

TA-W-72,233: NSI International, Inc., Farmingdale, New York, covered by TA-W-72,226: NSI International, Inc., Farmingdale, New York.

TA-W-72,254: SPI America, LLC, Lawrenceburg, Tennessee, covered by TA-W-72,254: SPI America, LLC, Lawrenceburg, Tennessee.

TA-W-72,322: Pleasant Trucking, Inc., Connellsville, Pennsylvania, covered by TA-W-72,236: Pleasant Trucking, Inc., Connellsville, Pennsylvania.

TA-W-72,323: Sony Electronics, Park Ridge, New Jersey, covered by TA-W-71,501, as amended: Sony Electronics, San Diego, California, including Park Ridge, New Jersey and many other locations throughout the United States.

TA-W-72,442: Unisys, Plymouth, Michigan, covered by TA-W-72,286: Unisys, Plymouth, Michigan.

TA-W-72,447: Cadmus Communications, Columbus, Ohio, covered by TA-W-72,405: Cadmus Journal Services, Cadmus Communications, Columbus, Ohio.

TA-W-72,479: Duro-Life Corp., Algonquin, Illinois, covered by TA-W-72,425: Duro-Life Corp., Algonquin, Illinois.

TA-W-72,535: Dura-Bar, Woodstock, Illinois, covered by TA-W-72,534: Wells Manufacturing, Dura-Bar, Woodstock, Illinois.

TA-W-72,733: HMX Tailored, Buffalo, New York, covered by TA-W-72,370: HMX Tailored, Buffalo, New York.

TA-W-72,744: The H.B. Smith Co., Westfield, Massachusetts, covered by TA-W-72,700: The H.B. Smith Co., Westfield, Massachusetts.

TA-W-72,967: General Electric Transportation, Grove City, Pennsylvania, covered by TA-W-72,883: General Electric Transportation, Grove City, Pennsylvania.

I hereby certify that the aforementioned determinations were issued during the period of September 3, 2009 through December 22, 2009. Copies of these terminations are available for inspection in Room N-5428, U.S. Department of Labor, 200 Constitution Avenue, NW., Washington, DC 20210 during normal business hours or will be mailed to persons who write to the above address. These determinations also are available on the Department's Web site at http://www.doleta/tradeact under the searchable listing of determinations.

Dated: April 14, 2010.
Elliott S. Kushner,
Certifying Officer, Division of Trade Adjustment Assistance.

[FR Doc. 2010-9350 Filed 4-21-10; 8:45 am]

BILLING CODE 4510-FN-P